NATIONAL SCIENCE FOUNDATION

Notice of Permits Issued Under the Antarctic Conservation Act of 1978

AGENCY: National Science Foundation.

ACTION: Notice of permits issued under the Antarctic Conservation of 1978, Public Law 95-541.

SUMMARY: The National Science Foundation (NSF) is required to publish notice of permits issued under the Antarctic Conservation Act of 1978. This is the required notice.

FOR FURTHER INFORMATION CONTACT: Nadene G. Kennedy, Permit Office, Office of Polar Programs, Rm. 755, National Science Foundation, 4201 Wilson Boulevard, Arlington, VA 22230.

SUPPLEMENTARY INFORMATION: On April 24, 2013, the National Science Foundation published a notice in the Federal Register of a permit application received. A permit was issued on May 25, 2013 to:

Ron Naveen, Permit No. 2014-001.

Nadene G. Kennedy,
Permit Officer.

[FR Doc. 2013-12960 Filed 5-31-13; 8:45 am]

BILLING CODE 7555-01-P